ENVIRONMENTAL PROTECTION AGENCY

[OR-01-006; FRL-7169-9]

Adequacy Status of the State Implementation Plan Revision for Carbon Monoxide in the Medford Urban Growth Boundary, Medford, Oregon

AGENCY: Environmental Protection Agency (EPA).

ACTION: Notice of adequacy determination.

SUMMARY: In this notice, EPA is notifying the public that we have found that the motor vehicle emissions budget submitted in the Revised Maintenance Plan for the Moderate Carbon Monoxide Maintenance Area for Medford, Oregon adequate for conformity purposes. On March 2, 1999, the D.C. Circuit Court ruled that submitted SIPs cannot be used for conformity determinations until EPA has affirmatively found them adequate. As a result of our finding, the Rogue Valley Council of Governments, Oregon Department of Transportation, and the U.S. Department of Transportation are required to use the motor vehicle emissions budget in this submitted maintenance plan for future transportation conformity determinations.

DATES: This finding is effective April 26, 2002.

FOR FURTHER INFORMATION CONTACT: The finding will be available at EPA's conformity website: http://www.epa.gov/oms/traq, (once there, click on the “Conformity” button, then look for “Adequacy Review of SIP Submissions for Conformity”). You may also contact Wayne Elson, U.S. EPA, Region 10 (OAQ-107), 1200 Sixth Ave, Seattle WA 98101; (206) 553-1463 or elson.wayne@epa.gov.

SUPPLEMENTARY INFORMATION: Today's notice is simply an announcement of a finding that we have already made. EPA Region 10 sent a letter to The Oregon Department of Environmental Quality on March 21, 2002, stating that the motor vehicle emissions budget in the State Implementation Plan Revision for Carbon Monoxide in the Medford Urban Growth Boundary, Medford, Oregon is adequate.

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budget is adequate for conformity purposes are outlined in 40 CFR 93.118(e)(4). Please note that an adequacy review is separate from EPA's completeness review.

We have described our process for determining the adequacy of submitted SIP budgets in guidance (May 14, 1999 memo titled “Conformity Guidance on Implementation of March 2, 1999 Conformity Court Decision”). We followed this guidance in making our adequacy determination.

Authority: 42 U.S.C. 7401-7671q.

Dated: March 30, 2002.
Ronald Kreizenbeck,
Acting Regional Administrator, Region 10.

[FR Doc. 02-8827 Filed 4-10-02; 8:45 am]

BILLING CODE 6560-50-P